NUCLEAR REGULATORY COMMISSION

[Docket No. 40-8584; NRC-2018-0141]

Kennecott Uranium Company; Sweetwater Uranium Project

AGENCY: Nuclear Regulatory Commission.

ACTION: License renewal; issuance.

SUMMARY: The U.S. Nuclear Regulatory Commission (NRC) is issuing a renewed license to Kennecott Uranium Company (KUC) for its Sweetwater Uranium Project (SUP), located in Sweetwater County, Wyoming, for Materials License SUA-1350. The license authorizes KUC to possess uranium source and byproduct material at the SUP. In addition, the license authorizes KUC to operate its facilities as proposed in its license renewal application, as amended, and as prescribed in the license, after a pre-operational inspection has been completed at the SUP and any safety issues resolved. The renewed license expires on November 9, 2024.

DATES: The license referenced in this document is available on July 6, 2018.

ADDRESSES: Please refer to Docket ID NRC-2018-0141 when contacting the NRC about the availability of information regarding this document. You may obtain publicly-available information related to this document using any of the following methods:

• Federal Rulemaking Website: Go to http://www.regulations.gov and search for Docket ID NRC-2018-0141. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: James Webb, Office of Nuclear Material Safety and Safeguards, U.S. Nuclear Regulatory Commission, Washington, DC 20555-0001, telephone: 301-415-6252; email: James.Webb@nrc.gov.

SUPPLEMENTARY INFORMATION:

I. Discussion

Based upon the application dated July 24, 2014 (ADAMS Package Accession No. ML14251A115), as supplemented on October 31, 2015 (ADAMS Accession No. ML15300A336), June 2, 2016 (ADAMS Accession No. ML16160A410), October 18, 2016 (ADAMS Accession No. ML16298A147), November 14, 2016 (ADAMS Accession No. ML16335A183), September 28, 2017 (ADAMS Accession No. ML17277A074), and January 12, 2018 (ADAMS Accession No. ML18043A034), the NRC has issued a renewed license (ADAMS Accession No. ML18102B175) to KUC, located in Sweetwater County, Wyoming. The renewed license authorizes KUC to possess uranium source and byproduct material at the SUP. In addition, the license authorizes KUC to operate its facilities as proposed in its license renewal application, as amended, and as prescribed in its amended license, after a pre-operational inspection has been completed at the SUP and any safety issues resolved. The renewed license will expire on November 9, 2024.

The licensee's application for a renewed license complies with the standards and requirements of the Atomic Energy Act of 1954, as amended (the Act), and the NRC's rules and regulations. The NRC has made appropriate findings as required by the Act, part 20 of title 10 of the Code of Federal Regulations (10 CFR), and 10 CFR part 40, and sets forth those findings in the renewed license. The agency afforded an opportunity for a hearing in the “Notice of Opportunity for a Hearing” published in the Federal Register on February 10, 2015 (80 FR 7501). The NRC received no request for a hearing or petition for leave to intervene following the notice.

The NRC staff prepared a safety evaluation report (ADAMS Accession No. ML18052B381) for the renewal of the license and concluded, based on that evaluation, that KUC will continue to meet the regulations in the Act, 10 CFR part 20, and 10 CFR part 40. The NRC staff also prepared an environmental assessment (ADAMS Accession No. ML18135A206) and finding of no significant impact for the renewal of this license, which were published in the Federal Register on June 8, 2018 (83 FR 26708). The NRC staff concluded that renewal of this license will not have a significant impact on the quality of the human environment. Concurrent with its license renewal review, the NRC also reviewed KUC's revised request to construct an additional tailings impoundment and evaporation ponds for future operations.

II. Availability of Documents

The following table includes the ADAMS accession numbers for the documents referenced in this notice. For additional information on accessing ADAMS, see the ADDRESSES section of this document.

Document | ADAMS accession No.
License Renewal Application (LRA) July 24, 2014 | ML14251A113
LRA Revision, October 31, 2015 | ML15300A336
LRA Revision, June 2, 2016 | ML16160A410
LRA Revision, October 18, 2016 | ML16298A147
LRA Revision, November 14, 2016 | ML16335A183
LRA Revision, September 28, 2017 | ML17277A074
LRA Revision, January 12, 2018 | ML18043A034
Final Environmental Assessment for the Renewal of the U.S. Nuclear Regulatory Commission License No. SUA-1530 for Kennecott Uranium Company, Sweetwater County, Wyoming, issued June 2018 | ML18135A206
NRC Safety Evaluation Report, February 28, 2018 | ML18052B381
Source Materials License, Kennecott Uranium Company, June 30, 2018 | ML18102B175

Dated at Rockville, Maryland, this 6th day of July 2018.
For the Nuclear Regulatory Commission.
Michele M. Sampson,
Acting Deputy Director, Division of Decommissioning, Uranium Recovery and Waste Programs, Office of Nuclear Material Safety and Safeguards.

[FR Doc. 2018-14855 Filed 7-12-18; 8:45 am]

BILLING CODE 7590-01-P